DEPARTMENT OF ENERGY

Federal Energy Regulatory Commission

Sunshine Act Meeting Notice

March 13, 2008.

The following notice of meeting is published pursuant to section 3(a) of the government in the Sunshine Act (Pub. L. No. 94-409), 5 U.S.C. 552b:

Agency Holding Meeting: Federal Energy Regulatory Commission.

Date and Time: March 20, 2008, 10 a.m.

Place: Room 2C, 888 First Street, NE., Washington, DC 20426.

Status: Open.

Matters to be Considered: Agenda. Note—Items listed on the agenda may be deleted without further notice.

CONTACT PERSON FOR MORE INFORMATION: Kimberly D. Bose, Secretary, Telephone (202) 502-8400. For a recorded message listing items struck from or added to the meeting, call (202) 502-8627.

This is a list of matters to be considered by the Commission. It does not include a listing of all documents relevant to the items on the agenda. All public documents, however, may be viewed on line at the Commission's website at http://www.ferc.gov using the eLibrary link, or may be examined in the Commission's Public Reference Room.

931th—Meeting

Regular Meeting

March 20, 2008, 10 a.m.

Item No. | Docket No. | Company
ADMINISTRATIVE
A-1 | AD02-1-000 | Agency Administrative Matters.
A-2 | AD02-7-000 | Customer Matters, Reliability, Security and Market Operations.
A-3 | AD06-3-000 | Energy Market Update.
ELECTRIC
E-1 | OMITTED
E-2 | RM08-3-000 | Mandatory Reliability Standard for Nuclear Plant Interface Coordination.
E-3 | AD07-12-000 | Reliability Standard Compliance and Enforcement in Regions with Regional Transmission Organizations or Independent System Operators.
E-4 | RR06-1-012 | North American Electric Reliability Council, North American Electric Reliability Corporation.
| RR07-1-002 | Delegation Agreement Between the North American Electric Reliability Corporation and Texas Regional Entity, a division of ERCOT.
| RR07-2-002 | Delegation Agreement Between the North American Electric Reliability Corporation and Midwest Reliability Organization.
| RR07-3-002 | Delegation Agreement Between the North American Electric Reliability Corporation and Northeast Power Coordinating Council, Inc.
| RR07-4-002 | Delegation Agreement Between the North American Electric Reliability Corporation and ReliabilityFirst Corporation.
| RR07-5-002 | Delegation Agreement Between the North American Electric Reliability Corporation and SERC Reliability Corporation.
| RR07-6-002 | Delegation Agreement Between the North American Electric Reliability Corporation and Southwest Power Pool, Inc.
| RR07-7-002 | Delegation Agreement Between the North American Electric Reliability Corporation and Western Electricity Coordinating Council.
| RR07-8-002 | Delegation Agreement Between the North American Electric Reliability Corporation and Florida Reliability Coordinating Council.
| RR08-2-000 | North American Electric Reliability Corporation and Western Electricity Coordinating Council.
E-5 | EL02-71-004 | State of California, ex rel. Bill Lockyer, Attorney General of the State of California v. British Columbia Power Exchange Corporation, Coral Power, LLC, Dynegy Power Marketing, Inc., Enron Power Marketing, Inc., Mirant Americas Energy Marketing, LP, Reliant Energy Services, Inc., Williams Energy Marketing & Trading Company, All Other Public Utility Sellers of Energy and Ancillary Services to the California Energy Resources Scheduling Division of the California Department of Water Resources, and All Other Public Utility Sellers of Energy and Ancillary Services into Markets Operated by the California Power Exchange and California Independent System Operator.
E-6 | ER04-157-014 | Bangor Hydro-Electric Company, Central Maine Power Company, NSTAR Electric & Gas Corporation, New England Power Company, Northeast Utilities Service Company, The United Illuminating Company, Vermont Electric Power Company, Central Vermont Public Service Corp, Green Mountain Power Corporation.
| ER04-714-006 | Florida Power & Light Company—New England Division.
E-7 | ER08-394-000 | Midwest Independent Transmission System Operator, Inc.
E-8 | ER06-1474-002, ER06-1474-004 | PJM Interconnection, L.L.C.
E-9 | EL08-31-000, ER08-396-000 | Westar Energy, Inc.
E-10 | OMITTED
E-11 | ER03-583-007, ER03-681-005, ER03-682-006 | Entergy Services, Inc. and EWO Marketing, L.P., Entergy Services, Inc. and Energy Power, Inc.
| ER03-744-005 | Entergy Services, Inc. and Entergy Louisiana, Inc.
E-12 | ER06-615-011, ER06-615-012, ER07-1257-000 | California Independent System Operator Corporation.
E-13 | ER05-1410-006, EL05-148-006 | PJM Interconnection, L.L.C.
E-14 | ES08-24-000 | Startrans IO, L.L.C.
E-15 | RM01-8-008 | Revised Public Utility Filing Requirements for Electric Quarterly Reports; Xcel Energy Services, Inc.
E-16 | EL08-19-000 | Public Service Electric and Gas Company.
E-17 | EL08-17-000 | Connecticut Municipal Electric Energy Cooperative and Richard Blumenthal Attorney General for the State of Connecticut v. Milford Power Company, LLC and ISO New England Inc.
E-18 | OMITTED
E-19 | EL07-95-000 | Black Oak Energy, LLC v. New York Independent System Operator, Inc.
E-20 | OMITTED
E-21 | ER04-449-007, ER04-449-008, ER04-449-016 | New York Independent System Operator, Inc., New York Transmission Owners.
| ER07-543-000 | Linden VFT, LLC.
E-22 | ER06-278-000, ER06-278-001, ER06-278-002, ER06-278-003, ER06-278-004, ER06-278-005, ER06-278-006 | The Nevada Hydro Company, Inc.
E-23 | EL00-95-000, EL00-95-045, EL00-95-187 | San Diego Gas & Electric Company v. Sellers of Energy and Ancillary Services into Markets Operated by the California Independent System Operator and the California Power Exchange.
| EL00-98-000, EL00-98-069, EL00-98-172 | Investigation of Practices of the California Independent System Operator Corporation and the California Power Exchange.
E-24 | ER07-799-002, ER07-799-003, EL07-61-001, EL07-61-002 | Norwalk Power, LLC.
E-25 | OMITTED
E-26 | ER07-539-003, ER07-539-004, ER07-540-003, ER07-540-004 | Niagara Mohawk Power Corporation.
E-27 | AD08-2-000 | Interconnection Queuing Practices.
E-28 | RR07-16-001 | North American Electric Reliability Corporation.
MISCELLANEOUS
M-1 | RM07-1-000 | Standards of Conduct for Transmission Providers.
M-2 | RM07-9-000 | Revisions to Forms, Statements, and Reporting Requirements for Natural Gas Pipelines.
GAS
G-1 | OR06-10-000 | BP Pipelines (Alaska) Inc., ConocoPhillips Transportation Alaska, Inc., ExxonMobil Pipeline Company, Koch Alaska Pipeline Company, Unocal Pipeline Company.
G-2 | OMITTED
G-3 | RP08-110-000 | Columbia Gas Transmission Corporation.
G-4 | RP08-127-000 | Columbia Gas Transmission Corporation.
G-5 | RP08-124-000 | Columbia Gulf Transmission Company.
G-6 | OMITTED
G-7 | RP00-445-021 | Alliance Pipeline L.P.
G-8 | RP04-42-000, RP04-42-002 | Southern Natural Gas Company.
G-9 | OMITTED
HYDRO
H-1 | DI07-1-001, P-2225-011 | Public Utility District No. 1 of Pend Oreille County, Washington.
H-2 | P-12751-001 | Finavera Renewables Ocean Energy, Ltd.
H-3 | P-2524-015 | Grand River Dam Authority.
CERTIFICATES
C-1 | CP06-54-000 | Broadwater Energy LLC
| CP06-55-000, CP06-56-000 | Broadwater Pipeline LLC.
C-2 | CP07-207-000, RP08-190-000 | Colorado Interstate Gas Company.
C-3 | OMITTED
C-4 | CP07-457-000 | Iroquois Gas Transmission System, L.P.

Kimberly D. Bose,
Secretary.

A free webcast of this event is available through http://www.ferc.gov. Anyone with Internet access who desires to view this event can do so by navigating to www.ferc.gov's Calendar of Events and locating this event in the Calendar. The event will contain a link to its webcast. The Capitol Connection provides technical support for the free webcasts. It also offers access to this event via television in the DC area and via phone bridge for a fee. If you have any questions, visit http://www.CapitolConnection.org or contact Danelle Springer or David Reininger at 703-993-3100.

Immediately following the conclusion of the Commission Meeting, a press briefing will be held in the Commission Meeting Room. Members of the public may view this briefing in the designated overflow room. This statement is intended to notify the public that the press briefings that follow Commission meetings may now be viewed remotely at Commission headquarters, but will not be telecast through the Capitol Connection service.

[FR Doc. E8-5582 Filed 3-19-08; 8:45 am]

BILLING CODE 6717-01-P